DEPARTMENT OF COMMERCE

International Trade Administration

[A-357-812, A-570-863, C-357-813]

Notice of Postponement of Final Determinations of Sales at Less Than Fair Value: Honey From Argentina and the People's Republic of China and Postponement of Final Countervailing Duty Determination: Honey From Argentina

AGENCY: Import Administration, International Trade Administration, Department of Commerce.

EFFECTIVE DATE: June 6, 2001.

FOR FURTHER INFORMATION CONTACT: Melissa Blackledge (Argentina) at (202) 482-3518, Angelica Mendoza (the People's Republic of China (the PRC)) at (202) 482-3019, or Charles Rast at (202) 482-1324 and Donna Kinsella at (202) 482-0194; Antidumping and Countervailing Duty Enforcement Group III, Office Eight, Import Administration, International Trade Administration, U.S. Department of Commerce, 14th Street and Constitution Avenue, NW., Washington, DC 20230.

Postponement of Final Determination and Extension of Provisional Measures

On February 27, 2001, petitioners requested alignment of the final determination in the investigation of countervailable subsidies provided to producers and exporters of honey from Argentina with the final determination of the antidumping duty investigation of honey from the PRC. In accordance with section 705(a)(1) of the Tariff Act, we aligned the final determination in that countervailing duty investigation with the final determination in the companion antidumping investigation of honey from the PRC. See Honey from Argentina: Notice of Preliminary Affirmative Countervailing Duty Determination and Alignment With Final Antidumping Duty Determination on Honey from the People's Republic of China, 66 FR 14521 (March 13, 2001).

On May 11, 2001 the Department published its preliminary determinations in the antidumping investigations of honey from Argentina and the PRC. See Notice of Preliminary Determination of Sales at Less Than Fair Value: Honey from Argentina, 66 FR 24108 (May 11, 2001) and Notice of Preliminary Determination of Sales at Less Than Fair Value: Honey from the People's Republic of China, 66 FR 24101 (May 11, 2001). The notices stated that the Department would issue its final determinations no later than 75 days after the date of issuance of the notices.

Pursuant to section 735(a)(2)(A) of the Tariff Act of 1930, as amended (the Tariff Act), on May 11, 2001, Asociación de Cooperativas Argentinas (ACA), a respondent in the Argentine investigation, requested that the Department postpone its final determination to the fullest extent permitted by the statute and the Department's regulations. On May 14, 2001, seven exporters of subject merchandise from the PRC participating in the investigation made the same request.¹ In addition, the exporters in both investigations also consented to an extension of the period for the imposition of provisional measures to the fullest extent permitted, or six months, whichever is later. In accordance with section 735(a)(2)(A) of the Tariff Act and 19 CFR 351.210(b), because (1) the preliminary determinations were affirmative; (2) the requesting exporters account for a significant proportion of exports of the subject merchandise; and (3) no compelling reasons for denial exist, we are granting the exporters' request and are postponing the final determinations until no later than 135 days after publication of the preliminary determinations in the Federal Register. Suspension of liquidation will be extended accordingly.

¹ The exporters were Inner Mongolia Autonomous Region Native Produce and Animal By-Products Import and Export Corporation, Shanghai Eswell Enterprise Co., Ltd., High Hope International Group Jiangsu Foodstuffs Import and Export Corporation, Kunshan Foreign Trade Corporation, Zhejiang Native Produce and Animal By-Products Import and Export Corporation, Henan Native Produce Import and Export Corporation, and Anhui Native Produce Import and Export Corporation.

This postponement is in accordance with section 735(a)(2)(A) of the Tariff Act, and 19 CFR 351.210(b)(2).

Dated: May 29, 2001.
Faryar Shirzad,
Assistant Secretary for Import Administration.

[FR Doc. 01-14278 Filed 6-5-01; 8:45 am]

BILLING CODE 3510-DS-P